DEPARTMENT OF TRANSPORTATION

Federal Motor Carrier Safety Administration

[DOT Docket No. FMCSA-2005-21338]

Hours of Service of Drivers; Xora, Inc. Application for an Exemption From the Design Requirements for Automatic On-Board Recording Devices (AOBRs)

AGENCY: Federal Motor Carrier Safety Administration (FMCSA), DOT.

ACTION: Notice of application for exemption; request for comments.

SUMMARY: The Federal Motor Carrier Safety Administration (FMCSA) requests public comment on Xora, Inc.'s (Xora) application for an exemption from the requirement that AOBRs for monitoring drivers' hours of service be integrally synchronized with the specific operations of the vehicle on which it is installed. Xora, a software development company, working in conjunction with Nextel Communications, a wireless communications service provider, has developed an hours of service (HOS) OBR software application for use with Global Positioning System (GPS)—enabled wireless telephones and its computer system to document drivers' hours of service. Xora's system performs all of the functions required of AOBRs currently allowed by FMCSA's regulations with the exception of the requirement for integral synchronization with specific operations of the commercial motor vehicle on which it is installed. Xora believes the use of their hours-of-service monitoring system by motor carriers would achieve a level of safety equivalent to what would be provided by AOBRs which are integrally synchronized with specific operations of the CMV.

DATES: Comments must be received on or before July 8, 2005.

ADDRESSES: You may submit comments identified by DOT DMS Docket Number FMCSA-2005-21338 by any of the following methods:

• Web Site: http://dms.dot.gov. Follow the instructions for submitting comments on the DOT electronic docket site.

• Fax: 1-202-493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number for this notice. Note that all comments received will be posted without change to http://dms.dot.gov including any personal information provided. Please see the Privacy Act heading for further information.

Docket: For access to the docket to read background documents or comments received, go to http://dms.dot.gov and/or Room PL-401 on the plaza level of the Nassif Building, 400 Seventh Street, SW., Washington, DC, between 9 a.m. and 5 p.m., Monday through Friday, except Federal holidays.

Privacy Act: Anyone may search the electronic form of all comments received into any of DOT's dockets by the name of the individual submitting the comment (or of the person signing the comment, if submitted on behalf of an association, business, labor union, or other entity). You may review DOT's complete Privacy Act Statement in the Federal Register (65 FR 19477, Apr. 11, 2000). This statement is also available at http://dms.dot.gov.

FOR FURTHER INFORMATION CONTACT: Robert Schultz, Driver and Carrier Operations Division, Office of Bus and Truck Standards and Operations, MC-PSD, (202) 366-4009, Federal Motor Carrier Safety Administration, 400 Seventh Street, SW., Washington, DC 20590-0001.

SUPPLEMENTARY INFORMATION:

Background

Section 4007 of the Transportation Equity Act for the 21st Century (Pub. L. 105-178, 112 Stat. 107, June 9, 1998) amended 49 U.S.C. 31315 and 31136(e) to provide FMCSA with authority to grant exemptions from its safety regulations. On August 20, 2004, FMCSA published a Final Rule (69 FR 51589) implementing section 4007 (63 FR 67600). Under the rule FMCSA must publish a notice of each exemption application in the Federal Register (49 CFR part 381). FMCSA must provide the public with an opportunity to inspect the information relevant to the application, including any safety analyses that have been conducted. The Agency must also provide an opportunity for public comment on the request.

FMCSA must then examine the safety analyses and the public comments and determine whether the exemption would achieve a level of safety equivalent to, or greater than, the level that would be achieved by complying with the current regulation (49 CFR 381.305). The Agency's decision must be published in the Federal Register (49 CFR 381.315(b)). If the Agency denies the request, it must state the reason for doing so. If the decision is to grant the exemption, the notice must specify the person or class of persons receiving the exemption, and the regulatory provision or provisions from which an exemption is being granted. The notice must also specify the effective period of the exemption (up to two years), and explain the terms and conditions of the exemption. The exemption may be renewed (49 CFR 381.300(b)).

Xora's Application for an Exemption

Xora requested an exemption from the requirement that AOBRs be integrally synchronized with specific operations of the vehicle on which they are installed. Section 395.15 of the Federal Motor Carrier Safety Regulations (49 CFR 395.15) allows the use of AOBRs, as defined in 395.2, instead of handwritten records of duty status required by 395.8. Section 395.2 defines AOBR as follows:

Automatic on-board recording device means an electric, electronic, electromechanical, or mechanical device capable of recording driver's duty status information accurately and automatically, as required by 49 CFR Part 395.15. The device must be integrally synchronized with specific operation of the commercial motor vehicle in which it is installed. At a minimum, the device must record engine use, road speeds, miles driven, the date and time of day.

Xora requested the exemption to enable its motor carrier clients to use its HOS management system as an alternative to AOBRs that are integrally synchronized with specific vehicle operations. A copy of the exemption application is in the docket for this notice.

Xora believes its Global Positioning System (GPS)—enabled, handheld HOS monitoring system provides several advantages when compared to handwritten records of duty status and AOBRs that are integrally synchronized with functions of the vehicle. The advantages are:

(1) Low cost;

(2) Real-time system for alerting drivers and managers about HOS limits and violations;

(3) Complete driver HOS history stored and available for review and audit;

(4) Enhanced HOS management reports;

(5) Tamper resistance;

(6) Ease of law enforcement review;

(7) Familiar wireless telephone handset, ease of training;

(8) Multi-purpose handset, voice, message, data, multi-media;

(9) Safety (driver may communicate in and away from the vehicle);

(10) Inexpensive mounting option;

(11) Ease of transfer from one vehicle to another;

(12) Ease of integration (allows for enhanced dispatch and logistics, including HOS availability);

(13) All activity digitally stored, secured and time stamped; and

(14) Ease of repair and replacement.

Xora requested that motor carriers covered by the exemption be allowed to use a GPS-enabled wireless telephone which can record vehicle speed, detect small changes in motion and identify stop/start events. The system can change the driver's duty status based upon GPS readings. Xora's system calculates vehicle speed and distance traveled based upon GPS satellite data. Xora believes this approach would result in an accurate recording of HOS and monitoring of drivers' duty status. The interval for signals between the GPS-enabled telephone and the satellite may be adjusted to once every minute to ensure accurate estimates of vehicle speed and distance traveled. The capability of the GPS-enabled wireless telephone would eliminate the necessity of having the unit tethered to the engine.

Xora argues that denial of the exemption would cause the motor carrier industry to lose an opportunity to replace handwritten records of duty status with a low cost alternative. Without this special consideration, the Xora system and other GPS-enabled handset-based HOS monitoring systems will not be able to enter the market in the foreseeable future. Xora believes the time taken for a regulatory change would result in vendors losing enthusiasm for the potential market. The company estimates that the total number of drivers operating under the terms of the exemption would be “upwards of ten thousand after the first year.” In addition, many motor carriers currently make extensive use of wireless telephone service and technology for basic communications, scheduling, and logistics. These motor carrier operations would have the ability to consolidate costs into one system that provides the features and benefits of wireless telephones and a paperless means of complying with the requirement to accurately document drivers' hours of service.

Xora believes its system offers enhanced safety because it allows for a much more accurate compilation of drivers' on-duty time, driving time, driving distance and total hours, than handwritten records of duty status. The system is easily accessible for Federal and State roadside inspectors to review. The system maintains the required records in the GPS-enabled handset, and records are also maintained at the motor carrier's principle place of business. The system also provides a warning for drivers as they approach the applicable HOS limits.

Request for Comments

In accordance with 49 U.S.C. 31315 and 31136(e), FMCSA requests public comment from all interested persons on Xora's application for exemption from 49 CFR 395.15. All comments received before the close of business on the comment closing date indicated at the beginning of this notice will be considered and will be available for examination in the docket at the location listed under the address section of this notice. Comments received after the comment closing date will be filed in the public docket and will be considered to the extent practicable. In addition to late comments, the FMCSA will also continue to file in the public docket relevant information that becomes available after the comment closing date. Interested persons should continue to examine the public docket for new material.

Issued on: May 27, 2005.
Annette M. Sandberg,
Administrator.

[FR Doc. 05-11333 Filed 6-7-05; 8:45 am]

BILLING CODE 4910-22-P